DEPARTMENT OF COMMERCE

National Institute of Standards and Technology

AGENCY: National Institute of Standards and Technology, Commerce.

ACTION: Notice of prospective grant of exclusive patent license.

SUMMARY: This is a notice in accordance with 35 U.S.C. 209(c)(1) and 37 CFR 404.7(a)(1)(i) that the National Institute of Standards and Technology (“NIST”), Department of Commerce, is contemplating the grant of an exclusive license in the United States of America, its territories, possessions and commonwealths, to NIST's interest in the invention embodied in U.S. Patent No. 5,508,342 (Application No. 08/189,708), titled, “Polymeric Amorphous Calcium Phosphate Compositions,” filed February 1, 1994; NIST Docket No. 93-063US, to the American Dental Association Health Foundation (ADAHF), having a place of business at 211 East Chicago Avenue, Chicago, IL 60611. The grant of the license would be for all fields of use.

FOR FURTHER INFORMATION CONTACT: J. Terry Lynch, National Institute of Standards and Technology, Office of Technology Partnerships, 100 Bureau Drive, Stop 2200, Gaithersburg, MD 20899.

SUPPLEMENTARY INFORMATION: The prospective exclusive license will be royalty sharing and will comply with the terms and conditions of 35 U.S.C. 209 and 37 CFR 404.7. The prospective exclusive license may be granted unless, within sixty day from the date of this published Notice, NIST receives written evidence and argument which establish that the grant of the license would not be consistent with the requirements of 35 U.S.C. 209 and 37 CFR 404.7. The availability of the invention for licensing was published in the Federal Register, Vol. 60, No. 175 (September 11, 1995).

U.S. Patent No. 5,508,342 is owned by the U.S. Government, as represented by the Secretary of Commerce. The present invention relates to a new type of bioactive composition which can be used in a prophylactic or reconstructive manner by preserving substantially sound mineralized tissue as well as for promoting remineralization of minerally defective skeletal tissue, such as teeth and bones. More particularly, the present invention is directed to compositions containing amorphous calcium phosphate and unsaturated monomers and to the hardened polymeric composites which they form. The present invention is also directed to a method of treating teeth and bones to effect mineralization.

Dated: November 15, 2001.
Karen H. Brown,
Deputy Director.

[FR Doc. 01-29166 Filed 11-20-01; 8:45 am]

BILLING CODE 3510-13-M